DEPARTMENT OF COMMERCE

National Oceanic and Atmospheric Administration

RIN 0648-XZ97

Caribbean Fishery Management Council; Public Meeting

AGENCY: National Marine Fisheries Service (NMFS), National Oceanic and Atmospheric Administration (NOAA), Commerce.

ACTION: Notice of public meetings.

SUMMARY: The Caribbean Fishery Management Council (Council) and its Administrative Committee will hold meetings.

DATES: The meetings will be held on December 14-15, 2010. The Council will convene on Tuesday, December 14, 2010, from 9 a.m. to 5 p.m., and the Administrative Committee will meet from 5:15 p.m. to 6 p.m. They will reconvene on Wednesday, December 15, 2010, from 9 a.m. to 5 p.m.

ADDRESSES: The meetings will be held at the El Conquistador Resort, 1000 El Conquistador Avenue, Las Croabas, Fajardo, Puerto Rico 00738.

FOR FURTHER INFORMATION CONTACT: Caribbean Fishery Management Council, 268 Muñoz Rivera Avenue, Suite 1108, San Juan, Puerto Rico 00918-1920, telephone: (787) 766-5926.

SUPPLEMENTARY INFORMATION: The Council will hold its 136th regular Council Meeting to discuss the items contained in the following agenda:

December 14, 2010—9 a.m. to 5 p.m.

• Call to Order.

• Adoption of Agenda.

• Consideration of the 135th Council Meeting Verbatim Transcription.

• Executive Director's Report.

• ACLs/AMs Report/Discussion.

• Trap Reduction Program Update—Anthony Iarocci/Tony Blanchard.

• Catch Share Program Report.

• Second ACL Amendment—Other Species.

PUBLIC COMMENT PERIOD (5 MINUTES PRESENTATIONS).

5:15 p.m.-6 p.m.

• Administrative Committee Meeting

—AP/SSC Membership

—Budget

FY-2009 and FY-2010

—SOPPs

—Other Business

December 15, 2010, 9 a.m.—5 p.m.

• Second ACLs Amendment—Other Species (cont.).

• EFH Document.

• Queen Conch Survey.

• Benthic Habitats and Associated Fish Communities at El Seco Reef Southeast Vieques—Dr. Jorge R. García-Sais.

• Highly Migratory Species Presentation.

• NOAA Recreational Fisheries Update—Russell Dunn.

• Enforcement Reports.

—Puerto Rico.

—U.S. Virgin Islands—DPNR.

—NOAA/NMFS.

—U.S. Coast Guard.

• Administrative Committee Recommendations.

• Meetings Attended by Council Members and Staff.

• Public Comment Period (5-Minutes Presentations).

• Other Business.

• Next Council Meeting.

The established times for addressing items on the agenda may be adjusted as necessary to accommodate the timely completion of discussion relevant to the agenda items. To further accommodate discussion and completion of all items on the agenda, the meeting may be extended from, or completed prior to the date established in this notice.

The meetings are open to the public, and will be conducted in English. However, simultaneous translation (English/Spanish) will be provided. Fishers and other interested persons are invited to attend and participate with oral or written statements regarding agenda issues.

Although non-emergency issues not contained in this agenda may come before this group for discussion, those issues may not be subjects for formal action during this meeting. Actions will be restricted to those issues specifically identified in this notice, and any issues arising after publication of this notice that require emergency action under section 305(c) of the Magnuson-Stevens Fishery Conservation and Management Act, provided that the public has been notified of the Council's intent to take final action to address the emergency.

Special Accommodations

These meetings are physically accessible to people with disabilities. For more information or request for sign language interpretation and/other auxiliary aids, please contact Mr. Miguel A. Rolón, Executive Director, Caribbean Fishery Management Council, 268 Muñoz Rivera Avenue, Suite 1108, San Juan, Puerto Rico, 00918-1920, telephone (787) 766-5926, at least 5 days prior to the meeting date.

Dated: October 20, 2010.
Tracey L. Thompson,
Acting Director, Office of Sustainable Fisheries, National Marine Fisheries Service.

[FR Doc. 2010-26832 Filed 10-22-10; 8:45 am]

BILLING CODE 3510-22-P